DEPARTMENT OF COMMERCE

National Oceanic and Atmospheric Administration

[I.D. 030602H]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Research Steering Committee, Monkfish Advisory Panel and Groundfish Oversight Committee in March, 2002 to consider actions affecting New England fisheries in the exclusive economic zone (EEZ). Recommendations from these groups will be brought to the full Council for formal consideration and action, if appropriate.

DATES: The meetings will be held between March 25 and 27, 2002. See SUPPLEMENTARY INFORMATION for specific dates and times.

ADDRESSES: The meetings will be held in Wakefield and Peabody, MA. See SUPPLEMENTARY INFORMATION for specific locations.

Council address: New England Fishery Management Council, 50 Water Street, Mill 2, Newburyport, MA 01950; telephone: (978) 465-0492.

FOR FURTHER INFORMATION CONTACT: Paul J. Howard, Executive Director, New England Fishery Management Council; (978) 465-0492.

SUPPLEMENTARY INFORMATION:

Meeting Dates and Agendas

Monday, March 25, 2002 at 9:30 a.m. and Tuesday, March 26, 2002 at 8:30 a.m.-Research Steering Committee Meeting.

Location: Sheraton Colonial, One Audubon Road, Wakefield, MA 01880; telephone: (781) 245-9300.

The committee will coordinate previously funded projects, potential future projects and other funding initiatives to ensure that the Council’s research priorities are met. This effort will include prioritizing the current initiatives previously identified as high priority cooperative research programs industry-based surveys/study fleets, cod tagging and conservation engineering. They will also review and potentially revise the existing research priorities previously established by the Research Steering Committee and approved by the Council for use in future Requests for Proposals (RFPs). They will also develop a mechanism for project tracking, evaluation and incorporation of information into the management process. Also on the agenda is to review the ongoing initiatives to establish pilot programs for study fleets/industry-based surveys.

Tuesday, March 26, 2002 at 9:00 a.m.-Monkfish Advisory Panel Meeting.

Location: Holiday Inn, One Newbury Street, Peabody, MA 01960; telephone: (978) 535-4600.

The Panel will review Amendment 2 goals and objectives adopted by the Councils, as well as management strategies being developed by the Oversight Committee. The Panel will advise the Committee on issues and alternatives pertaining to Amendment 2, including, but not limited to: how different fishery sectors have been affected by the current management plan; options for modifying how days-at-sea (DAS) are counted, particularly first or partial days of a trip; identifying times and areas of monkfish spawning that could be utilized as part of a management program; incidental catch limits for vessels not fishing on a monkfish DAS; and other specific matters identified by the Committee. The Panel will also develop its own recommendations to the Committee for management strategies to be considered in Amendment 2.

Wednesday, March 27, 2002 at 9:30 a.m.-Groundfish Oversight Committee Meeting.

Location: Holiday Inn, One Newbury Street, Peabody, MA 01960; telephone: (978) 535-4600.

The Groundfish Committee will continue development of Amendment 13 to the Northeast Multispecies Fishery Management Plan (FMP). At a meeting on February 27, 2002, the New England Council decided to develop groundfish management measures for five broad areas and one user group: inshore Gulf of Maine, offshore Gulf of Maine, eastern Georges Bank, western Georges Bank, Southern New England/Mid Atlantic, and recreational/charter/party. They will define the boundaries of the areas and develop specific objectives for each group (including specific objectives for the recreational/party/charter group). In addition, the committee will identify metrics that can be used to guarantee that objectives are met in each area/user group and will identify any other issues that must be considered as measures are developed for an area. They will also discuss revised targets for biomass and fishing mortality for groundfish stocks based on a report that will be presented to the Council on March 19, 2002. Finally, the Committee may consider the report of the Capacity Committee, which will also be delivered to the Council on March 19, 2002. A schedule will also be developed for future committee work.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: March 7, 2002.
Richard W. Surdi,
Acting Director, Office of Sustainable Fisheries, National Marine Fisheries Service.

[FR Doc. 02-5915 Filed 3-11-02; 8:45 am]

BILLING CODE 3510-22-S